INTERNATIONAL TRADE COMMISSION

[Investigation No. 731-TA-909 (Third Review)]

Low Enriched Uranium From France; Termination of Five-Year Review

AGENCY: United States International Trade Commission.

ACTION: Notice.

SUMMARY: The Commission instituted the subject five-year review in November 2018 to determine whether revocation of the antidumping duty order on low enriched uranium from France would be likely to lead to continuation or recurrence of material injury. On March 15, 2019, the Department of Commerce published notice that it was revoking the order effective December 24, 2018, because it did not receive a Notice of Intent to Participate from domestic interested parties. Accordingly, the subject review is terminated.

DATES: March 21, 2019.

FOR FURTHER INFORMATION CONTACT: Junie Joseph (202-205-3363), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to section 207.69 of the Commission's rules (19 CFR 207.69).

By order of the Commission.
Issued: March 22, 2019.
Lisa Barton,
Secretary to the Commission.

[FR Doc. 2019-11417 Filed 5-30-19; 8:45 am]

BILLING CODE 7020-02-P